DEPARTMENT OF THE INTERIOR

National Park Service

National Register of Historic Places; Notification of Pending Nominations

Nominations for the following properties being considered for listing in the National Register were received by the National Park Service before MARCH 25, 2000. Pursuant to section 60.13 of 36 CFR part 60 written comments concerning the significance of these properties under the National Register criteria for evaluation may be forwarded to the National Register, National Park Service, 1849 C St. NW., NC400, Washington, DC 20240. Written comments should be submitted by April 19, 2000.

Carol D. Shull,
Keeper of the National Register.

ALASKA

Kenai Peninsula Borough-Census Area

Berg, Andrew, Cabin, 30 mi. SE of Soldotna, Soldotna, 00000385

CALIFORNIA

Los Angeles County

Municipal Warehouse No. 1, 2500 Signal St., San Pedro, 00000386

Madera County

Spring Street Financial District (Boundary Increase), 401 S. Main St. and 405-11 S. Main St., Los Angeles, 00000387

FLORIDA

Sarasota County

Crisp Building, 1970 Main St., Sarasota, 00000388

GEORGIA

Charlton County

Floyds Island Hammock, Okefenokee National Wildlife Refuge, Folkston, 00000389

Peach County

Fort Valley State College Historic District, Pear St. and State University Dr., Fort Valley, 00000390

MICHIGAN

Oakland County

North Milford Village Historic District, Historic area of North Milford Village, Milford, 00000391

NORTH CAROLINA

Alamance County

East Davis Street Historic District, (Burlington MRA), Roughly bounded by E. Davis St., S. Mebane St., E. Webb Ave., and Tucker St., Burlington, 00000393

Cabarrus County

Isenhour, Daniel, House and Farm, 11970 Mt. Olive Rd., Gold Hill, 00000392

Durham County

City Garage Yard and Fire Drill Tower (Durham MRA), 501 Washington St., Durham, 00000394

Jackson County

Hooper, Dr. D. D., House, 773 W. Main St., Sylva, 00000395

PENNSYLVANIA

Allegheny County

Allegheny River Lock and Dam No. 2 (Allegheny River Navigation System MPS), 7451 Lockway W, Pittsburgh, 00000396

Allegheny River Lock and Dam No. 3 (Allegheny River Navigation System MPS), Approx. 1 mi. N of Barrington, New Kensington, 00000397

Allegheny River Lock and Dam No. 4 (Allegheny River Navigation System MPS), 1 River Ave., Natrona, 00000398

Armstrong County

Allegheny River Lock and Dam No. 6 (Allegheny River Navigation System MPS), 1258 River Rd., Freeport, 00000400

Allegheny River Lock and Dam No. 7 (Allegheny River Navigation System MPS), Along PA 4023, 0.6 mi. N of Kittanning Br., Kittanning, 00000401

Allegheny River Lock and Dam No. 9 (Allegheny River Navigation System MPS), Terminus of PA 1004, 0.2 mi. N of T488, Widnoon, 00000403

Allegheny River Lock and Dam No.8 (Allegheny River Navigation System MPS), Along PA 1033, 1.5 mi. S of Templeton, Templeton, 00000402

Allegheny River Locka and Dam No. 5 (Allegheny River Navigation System MPS), 830 River Rd., Freeport, 00000399

UTAH

Salt Lake County

Hepworth, Thomas and Mary, House, 725 W 200 N, Salt Lake City, 00000404

WASHINGTON

King County

Auburn Post Office (Historic US Post Offices in Washington MPS), 20 Auburn Ave. NE, Auburn, 00000407

Black Diamond Cemetery, Cemetery Hill Rd., Black Diamond, 00000406

Pierce County

Tacoma Mausoleum, 5302 S. Junett St., Tacoma, 00000405

WISCONSIN

Door County

Baileys Harbor Town Hall—McArdle Library (Public Library Facilities of Wisconsin MPS), 2392 Cty Trunk Highway F, Baileys Harbor, 00000408

[FR Doc. 00-8252 Filed 4-3-00; 8:45 am]

BILLING CODE 4310-70-P